CORPORATION FOR NATIONAL AND COMMUNITY SERVICE

Information Collection; Submission for OMB Review, Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of the Alumni Outcomes Survey. The purpose of this survey is to better understand the long-term civic participation and career pathways of AmeriCorps alumni, the acquisition of career skills obtained through national service, and the utilization of the Education Awards and its effect on future post-secondary outcomes and career choices. The information collected is not required to be considered for or to obtain grant funding support from AmeriCorps.

Copies of the information collection request can be obtained by contacting the office listed in the ADDRESSES section of this Notice.

DATES: Written comments must be submitted to the individual and office listed in the ADDRESSES section by April 1, 2016.

ADDRESSES: You may submit comments, identified by the title of the information collection activity, by any of the following methods:

(1) By mail sent to: Corporation for National and Community Service, Office of Research and Evaluation; Attention Diana Epstein, Research and Evaluation Manager, 250 E St. SW., Suite 300, Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Diana Epstein, 202-606-7564, or by email at depstein@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Comments

A 60-day Notice requesting public comment was published in the Federal Register on December 4, 2015. This comment period ended February 2, 2016. No public comments were received from this Notice.

Background

Information will be collected from AmeriCorps alumni through an online survey that will be administered by a contractor on behalf of CNCS. The purpose of the survey is to better understand the long-term civic participation and career pathways of AmeriCorps alumni, the acquisition of career skills obtained through national service, and the utilization of the Education Award and its effect on future post-secondary outcomes and career choices. In addition, the agency is interested in exploring how member outcomes vary by life stage and by different types of service experiences. This survey is also an opportunity to determine the value of data collected from alumni who are at different stages following their service year for informing policy and program decisions.

Current Action

CNCS seeks to renew the current information request with revisions to the survey administered in 2015 (OMB #3045-0170). Information will be collected from a nationally representative sample of AmeriCorps alumni who served in AmeriCorps NCCC, AmeriCorps VISTA, and AmeriCorps State and National programs and completed their most recent term of service 2, 5, or 10 years ago. The information collection will otherwise be used in the same manner as the existing clearance OMB #3045-0170. CNCS also seeks to continue using the current clearance until the revised survey is approved by OMB. The current clearance is due to expire on April 30, 2018.

Type of Review: Renewal with revisions.

Agency: Corporation for National and Community Service.

Title: Alumni Outcomes Survey.

OMB Number: 3045-0170.

Agency Number: None.

Affected Public: AmeriCorps alumni.

Total Respondents: 3,150.

Frequency: One time.

Average Time per Response: Averages 22 minutes.

Estimated Total Burden Hours: 1,155.

The desired number of completed surveys is 3,150.

Total Burden Cost (capital/startup): None.

Total Burden Cost (operating/maintenance): None.

Comments submitted in response to this notice will be summarized and/or included in the request for Office of Management and Budget approval of the information collection request; they will also become a matter of public record.

Dated: February 25, 2016.
Mary Hyde.
Director, Office of Research and Evaluation.

[FR Doc. 2016-04556 Filed 3-1-16; 8:45 am]

BILLING CODE 6050-28-P